DEPARTMENT OF COMMERCE

National Oceanic and Atmospheric Administration

[RTID 0648-XD930]

Pacific Fishery Management Council; Public Meeting

AGENCY: National Marine Fisheries Service (NMFS), National Oceanic and Atmospheric Administration (NOAA), Commerce.

ACTION: Notice of public meeting.

SUMMARY: Pacific Fishery Management Council (Pacific Council) staff will provide an online briefing on the Executive Director's recommendations on Pacific Council operations and priorities. This online briefing is open to the public.

DATES: The online meeting will be held on Tuesday, May 21, 2024, from 9 a.m. to 12 p.m., Pacific Time.

ADDRESSES: This meeting will be held online. Specific meeting information, including directions on how to join the meeting and system requirements will be provided in the meeting announcement on the Pacific Council's website (see www.pcouncil.org). You may send an email to Mr. Kris Kleinschmidt (kris.kleinschmidt@noaa.gov) or contact him at (503) 820-2412 for technical assistance.

Council address: Pacific Fishery Management Council, 7700 NE Ambassador Place, Suite 101, Portland, OR 97220-1384.

FOR FURTHER INFORMATION CONTACT: Kelly Ames, Deputy Director, Pacific Council; telephone: (503) 820-2417.

SUPPLEMENTARY INFORMATION: The Pacific Council created the Ad Hoc Committee of the Whole, composed of Pacific Council members, to make recommendations on Council operations in light of the Pacific Council's medium and long-term financial status. Based on the Committee's recommendations, the Pacific Council's Executive Director has proposed potential changes to Pacific Council operations in line with anticipated budget ceilings for the next three to five years. The Council will consider these recommendations at its June meeting and provide guidance on further development and implementation of any such changes. In this online briefing Pacific Council staff will present these recommendations for Pacific Council advisory bodies and the public to allow informed comment at the June Pacific Council meeting.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

Requests for sign language interpretation or other auxiliary aids should be directed to Mr. Kris Kleinschmidt (kris.kleinschmidt@noaa.gov; (503) 820-2412) at least 10 days prior to the meeting date.

Authority: 16 U.S.C. 1801 et seq.

Dated: April 29, 2024.
Rey Israel Marquez,
Acting Deputy Director, Office of Sustainable Fisheries, National Marine Fisheries Service.

[FR Doc. 2024-09623 Filed 5-2-24; 8:45 am]

BILLING CODE 3510-22-P